DEPARTMENT OF ENERGY

Federal Energy Regulatory Commission

[Docket No. RP02-417-001]

Venice Gathering System, L.L.C.; Notice of Compliance Filing

October 18, 2002.

Take notice that on October 11, 2002, Venice Gathering System, L.L.C. (Venice) tendered for filing as part of its FERC Gas Tariff, Original Volume No. 1, the following tariff sheets bearing an effective date of October 1, 2002:

Fourth Revised Sheet No. 47

Second Revised Sheet No. 53

Second Revised Sheet No. 57

Original Sheet No. 122A

Fourth Revised Sheet No. 52

Fourth Revised Sheet No. 56

Fourth Revised Sheet No. 78

Original Sheet No. 123A

Venice states that the filing was made in compliance with the Commission's September 26, 2002 order in the captioned proceeding. Venice further states that the revised tariff sheets reflect changes prescribed by Order No. 587-O and, specifically, new North American Energy Standards Board (NAESB) standards governing Title Transfer Tracking Service, definitions, and timelines applicable to non-biddable releases.

Any person desiring to protest said filing should file a protest with the Federal Energy Regulatory Commission, 888 First Street, NE, Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27276 Filed 10-24-02; 8:45 am]

BILLING CODE 6717-01-P